NUCLEAR REGULATORY COMMISSION

[Docket Nos. 50-237 and 50-249]

Exelon Generation Company, LLC; Notice of Consideration of Issuance of Amendment To Facility Operating License and Opportunity for a Hearing

The U.S. Nuclear Regulatory Commission (the Commission) is considering issuance of an amendment to Facility Operating License Nos. DPR-19 and DPR-25, issued to Exelon Generation Company, LLC (EGC, or the licensee), for the operation of Dresden Nuclear Power Station, Units 2 and 3, respectively, located in Grundy County, Illinois.

The proposed amendment, requested by application dated September 29, 2000, as supplemented by letters dated March 1 and August 13, 2001, would change the Technical Specifications (TS) to support a change in fuel vendors from Siemens Power Corporation to General Electric (GE) and a transition to the use of GE-14 fuel. The March 1 and August 13, 2001, supplements each increased the scope of the September 29, 2000, application. The March 1, 2001, supplement increased the scope of the proposed amendment by requesting TS changes to (1) Increase the number of required automatic depressurization system (ADS) valves from four to five, (2) add surveillance requirements for the operability of the additional ADS valve, (3) change a surveillance requirement to verify the flow rate of two low-pressure coolant injection pumps instead of three pumps, consistent with the accident analyses, and (4) remove an allowance to continue operating for 72 hours if certain combinations of emergency core cooling system (ECCS) systems are inoperable. The August 13, 2001, supplement further increased the scope of the proposed amendment by requesting changes to the TS allowable values for two ECCS functions, the containment spray time delay and the low-pressure coolant injection time delay. All of these changes support the transition to the use of GE-14 fuel. The changes proposed by the application dated September 29, 2000, were noticed in the Federal Register on December 27, 2000 (65 FR 81908).

Before issuance of the proposed license amendment, the Commission will have made findings required by the Atomic Energy Act of 1954, as amended (the Act) and the Commission's regulations.

The Commission has made a proposed determination that the amendment request involves no significant hazards consideration. Under the Commission's regulations in 10 CFR 50.92, this means that operation of the facility in accordance with the proposed amendment would not (1) involve a significant increase in the probability or consequences of an accident previously evaluated; or (2) create the possibility of a new or different kind of accident from any accident previously evaluated; or (3) involve a significant reduction in a margin of safety. As required by 10 CFR 50.91(a), the licensee has provided its analysis of the issue of no significant hazards consideration. For the changes requested by letter dated March 1, 2001, related to the ADS system and the ECCS surveillances, the licensee provided the following analysis of the issue of no significant hazards consideration:

1. The proposed TS changes do not involve a significant increase in the probability or consequences of an accident previously evaluated.

The proposed changes do not affect the initiators of analyzed events or the assumed mitigation of accident or transient events. Analyzed events are initiated by the failure of plant structures, systems or components. The proposed changes do not impact the condition or performance of these structures, systems or components. Consequences of analyzed events are the result of the plant being operated within assumed parameters at the onset of any events. The evaluations supporting the transition to GE fuel revealed that the current Technical Specification (TS) Limiting Condition for Operation (LCO) and conditions must be revised to place additional limitations on equipment to ensure that the plant is operated within the assumptions of the safety analyses. With the additional limitations, the analyses demonstrate that all of the acceptance criteria continue to be met. As a result, the changes do not involve a significant increase in the probability of consequences of an accident previously evaluated.

2. The proposed TS changes do not create the possibility of a new or different kind of accident from any accident previously evaluated.

The proposed changes do not involve a physical alteration of the facility or change the normal facility operation. No new or different equipment is being installed and no installed equipment is being removed. There is no alteration to the parameters within which the plant is normally operated or in the setpoints that initiate protective or mitigative actions. Consequently, no new failure modes are introduced and the changes therefore do not increase the possibility of a new or different kind of accident from any previously evaluated.

3. The proposed TS changes do not involve a significant reduction in a margin of safety.

Margin of safety is established through the design of the plant structures, systems and components, the parameters within which the plant is operated, and the establishment of setpoints for the actuation of equipment relied upon to respond to an event. The proposed changes do not impact the condition or performance of structures, systems or components relied upon for accident mitigation or any safety analysis assumptions. The changes reflect a reduction in redundancy in the capability of the Automatic Depressurization System (ADS)[.] However, the proposed changes impose more restrictive requirements on operation to ensure that all of the accident analyses continue to meet acceptance criteria. Therefore the proposed changes do not involve a significant reduction in margin of safety.

For the changes requested by letter dated August 13, 2001, related to the ECCS setpoints, the licensee provided the following analysis of the issue of no significant hazards consideration:

1. The proposed TS changes do not involve a significant increase in the probability or consequences of an accident previously evaluated.

The proposed changes do not affect the initiators of analyzed events. Analyzed events are initiated by the failure of plant structures, systems or components. The proposed changes do not impact the condition or performance of these structures, systems, or components. Therefore, the proposed changes do not affect the probability of an accident previously evaluated.

The proposed changes to the time delays for the core spray and low pressure coolant injection pumps ensure that the assumptions in the safety analyses for the Loss of Coolant Accident (LOCA) are met. The safety analyses demonstrate that all of the acceptance criteria continue to be met. As a result, the proposed changes do not involve an increase in the consequences of an accident previously evaluated.

Therefore, the proposed changes do not involve a significant increase in the probability or consequences of an accident previously evaluated.

2. The proposed TS changes do not create the possibility of a new or different kind of accident from any accident previously evaluated.

The proposed changes do not involve a physical alteration of the facility or change the normal facility operation. No new or different equipment is being installed and no installed equipment is being removed. The new setpoints do not alter the parameters within which the plant is normally operated. Consequently, no new failure modes are introduced and the changes therefore do not create the possibility of a new or different kind of accident from any previously evaluated.

3. The proposed TS changes do not involve a significant reduction in a margin of safety.

The proposed changes to the time delays for the core spray and low pressure coolant injection pumps ensure that the assumptions in the safety analyses for the LOCA are met. The safety analyses demonstrate that all of the acceptance criteria continue to be met. As a result, there is no reduction in the margin of safety.

The NRC staff has reviewed the licensee's analysis and, based on this review, it appears that the three standards of 10 CFR 50.92(c) are satisfied. Therefore, the NRC staff proposes to determine that the amendment request involves no significant hazards consideration.

The Commission is seeking public comments on this proposed determination. Any comments received within 30 days after the date of publication of this notice will be considered in making any final determination.

Normally, the Commission will not issue the amendment until the expiration of the 30-day notice period. However, should circumstances change during the notice period such that failure to act in a timely way would result, for example, in derating or shutdown of the facility, the Commission may issue the license amendment before the expiration of the 30-day notice period, provided that its final determination is that the amendment involves no significant hazards consideration. The final determination will consider all public and State comments received. Should the Commission take this action, it will publish in the Federal Register a notice of issuance and provide for opportunity for a hearing after issuance. The Commission expects that the need to take this action will occur very infrequently.

Written comments may be submitted by mail to the Chief, Rules and Directives Branch, Division of Administrative Services, Office of Administration, U.S. Nuclear Regulatory Commission, Washington, DC 20555-0001, and should cite the publication date and page number of this Federal Register notice. Written comments may also be delivered to Room 6D59, Two White Flint North, 11545 Rockville Pike, Rockville, Maryland, from 7:30 a.m. to 4:15 p.m. Federal workdays. Documents may be examined, and/or copied for a fee, at the NRC's Public Document Room, located at One White Flint North, 11555 Rockville Pike (first floor), Rockville, Maryland.

The filing of requests for hearing and petitions for leave to intervene is discussed below. By September 24, 2001, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR part 2. Interested persons should consult a current copy of 10 CFR 2.714 which is available at the Commission's Public Document Room, located at One White Flint North, 11555 Rockville Pike (first floor), Rockville, Maryland. Publicly available records will be accessible electronically from the Agencywide Documents Access and Management Systems (ADAMS) Public Electronic Reading Room on the internet at the NRC Web site, http://www.nrc.gov/NRC/ADAMS/index.html. If you do not have access to ADAMS or if there are problems in accessing the documents located in ADAMS, contact the NRC Public Document Room (PDR) Reference staff at 1-800-397-4209, 301-415-4737 or by email to pdr@nrc.gov. If a request for a hearing or petition for leave to intervene is filed by the above date, the Commission or an Atomic Safety and Licensing Board, designated by the Commission or by the Chairman of the Atomic Safety and Licensing Board Panel, will rule on the request and/or petition; and the Secretary or the designated Atomic Safety and Licensing Board will issue a notice of hearing or an appropriate order.

As required by 10 CFR 2.714, a petition for leave to intervene shall set forth with particularity the interest of the petitioner in the proceeding, and how that interest may be affected by the results of the proceeding. The petition should specifically explain the reasons why intervention should be permitted with particular reference to the following factors: (1) The nature of the petitioner's right under the Act to be made party to the proceeding; (2) the nature and extent of the petitioner's property, financial, or other interest in the proceeding; and (3) the possible effect of any order which may be entered in the proceeding on the petitioner's interest. The petition should also identify the specific aspect(s) of the subject matter of the proceeding as to which petitioner wishes to intervene. Any person who has filed a petition for leave to intervene or who has been admitted as a party may amend the petition without requesting leave of the Board up to 15 days prior to the first prehearing conference scheduled in the proceeding, but such an amended petition must satisfy the specificity requirements described above.

Not later than 15 days prior to the first prehearing conference scheduled in the proceeding, a petitioner shall file a supplement to the petition to intervene which must include a list of the contentions which are sought to be litigated in the matter. Each contention must consist of a specific statement of the issue of law or fact to be raised or controverted. In addition, the petitioner shall provide a brief explanation of the bases of the contention and a concise statement of the alleged facts or expert opinion which support the contention and on which the petitioner intends to rely in proving the contention at the hearing. The petitioner must also provide references to those specific sources and documents of which the petitioner is aware and on which the petitioner intends to rely to establish those facts or expert opinion. Petitioner must provide sufficient information to show that a genuine dispute exists with the applicant on a material issue of law or fact. Contentions shall be limited to matters within the scope of the amendment under consideration. The contention must be one which, if proven, would entitle the petitioner to relief. A petitioner who fails to file such a supplement which satisfies these requirements with respect to at least one contention will not be permitted to participate as a party.

Those permitted to intervene become parties to the proceeding, subject to any limitations in the order granting leave to intervene, and have the opportunity to participate fully in the conduct of the hearing, including the opportunity to present evidence and cross-examine witnesses.

If a hearing is requested, the Commission will make a final determination on the issue of no significant hazards consideration. The final determination will serve to decide when the hearing is held.

If the final determination is that the amendment request involves no significant hazards consideration, the Commission may issue the amendment and make it immediately effective, notwithstanding the request for a hearing. Any hearing held would take place after issuance of the amendment.

If the final determination is that the amendment request involves a significant hazards consideration, any hearing held would take place before the issuance of any amendment.

A request for a hearing or a petition for leave to intervene must be filed with the Secretary of the Commission, U.S. Nuclear Regulatory Commission, Washington, DC 20555-0001, Attention: Rulemakings and Adjudications Staff, or may be delivered to the Commission's Public Document Room, located at One White Flint North, 11555 Rockville Pike (first floor), Rockville, Maryland, by the above date. A copy of the petition should also be sent to the Office of the General Counsel, U.S. Nuclear Regulatory Commission, Washington, DC 20555-0001, and to Mr. Robert Helfrich, Senior Counsel, Nuclear, Mid-West Regional Operating Group, Exelon Generation Company, LLC, 1400 Opus Place, Suite 900, Downers Grove, Illinois, 60515, attorney for the licensee.

Nontimely filings of petitions for leave to intervene, amended petitions, supplemental petitions and/or requests for hearing will not be entertained absent a determination by the Commission, the presiding officer or the presiding Atomic Safety and Licensing Board that the petition and/or request should be granted based upon a balancing of the factors specified in 10 CFR 2.714(a)(1)(i)-(v) and 2.714(d).

For further details with respect to this action, see the application for amendment dated September 29, 2000, as supplemented by letters dated March 1 and August 13, 2001, which are available for public inspection at the Commission's Public Document Room, located at One White Flint North, 11555 Rockville Pike (first floor), Rockville, Maryland. Publicly available records will be accessible from the Agencywide Documents Access and Management Systems (ADAMS) Public Electronic Reading Room on the internet at the NRC Web site, http://www.nrc.gov/NRC/ADAMS/index.html. If you do not have access to ADAMS or if there are problems in accessing the documents located in ADAMS, contact the NRC Public Document Room (PDR) Reference staff at 1-800-397-4209, 301-415-4737 or by email to pdr@nrc.gov.

Dated at Rockville, Maryland, this 17th day of August 2001.
For the Nuclear Regulatory Commission.
Lawrence W. Rossbach,
Project Manager, Section 2, Project Directorate III, Division of Licensing Project Management, Office of Nuclear Reactor Regulation.

[FR Doc. 01-21290 Filed 8-22-01; 8:45 am]

BILLING CODE 7590-01-P